DEPARTMENT OF COMMERCE

International Trade Administration

Virtual Trade Mission to Canada's North, October 6-8, 2014; Cancellation

AGENCY: International Trade Administration, Department of Commerce.

ACTION: Notice; Cancellation.

SUMMARY: The United States Department of Commerce published a notice in the Federal Register of March 20, 2014 regarding the Virtual Trade Mission to Canada's North, October 6-8, 2014. This mission has been cancelled.

Cancellation Notice

As the organizers of the Aboriginal Entrepreneurs Conference and Trade Show 2014, a key part of the Virtual Trade Mission to Canada's North, have canceled their event, the United States Department of Commerce is cancelling the Virtual Trade Mission to Canada's North, October 6-8, 2014 announced in the Federal Register of March 20, 2014, in 79 FR 15569.

FOR FURTHER INFORMATION CONTACT: Tracey Ford, Commercial Specialist, U.S. Commercial Service, Ottawa, Canada, 613-688-5406, Tracey.Ford@trade.gov.

Elnora Moye,
Trade Program Assistant.

[FR Doc. 2014-23208 Filed 9-29-14; 8:45 am]

BILLING CODE 3510-FP-P